DEPARTMENT OF ENERGY

Federal Energy Regulatory Commission

Combined Notice of Filings

Take notice that the Commission has received the following Natural Gas Pipeline Rate and Refund Report filings:

Docket Numbers: RP21-552-000.

Applicants: Tennessee Gas Pipeline Company, L.L.C.

Description: § 4(d) Rate Filing: TGP 2021 Fuel Tracker Filing to be effective 4/1/2021.

Filed Date: 3/1/21.

Accession Number: 20210301-5029.

Comments Due: 5 p.m. ET 3/15/21.

Docket Numbers: RP21-553-000.

Applicants: Gulf South Pipeline Company, LLC.

Description: § 4(d) Rate Filing: Cap Rel Neg Rate Agmts (Atlanta Gas 8438 releases eff 3-1-2021) to be effective 3/1/2021.

Filed Date: 3/1/21.

Accession Number: 20210301-5060.

Comments Due: 5 p.m. ET 3/15/21.

Docket Numbers: RP21-554-000.

Applicants: Algonquin Gas Transmission, LLC.

Description: § 4(d) Rate Filing: Negotiated Rates—Various Releases eff 3-1-2021 to be effective 3/1/2021.

Filed Date: 3/1/21.

Accession Number: 20210301-5061.

Comments Due: 5 p.m. ET 3/15/21.

Docket Numbers: RP21-555-000.

Applicants: Destin Pipeline Company, L.L.C.

Description: § 4(d) Rate Filing: Destin Pipeline—Negotiated Rate Agreement Filing to be effective 4/1/2021.

Filed Date: 3/1/21.

Accession Number: 20210301-5062.

Comments Due: 5 p.m. ET 3/15/21.

Docket Numbers: RP21-556-000.

Applicants: BBT Midla, LLC.

Description: Compliance filing BBT Midla, LLC Annual Fuel Filing.

Filed Date: 3/1/21.

Accession Number: 20210301-5063.

Comments Due: 5 p.m. ET 3/15/21.

Docket Numbers: RP21-557-000.

Applicants: Panhandle Eastern Pipe Line Company, LP.

Description: § 4(d) Rate Filing: Fuel Filing on 3-1-21 to be effective 4/1/2021.

Filed Date: 3/1/21.

Accession Number: 20210301-5064.

Comments Due: 5 p.m. ET 3/15/21.

Docket Numbers: RP21-558-000.

Applicants: Rover Pipeline LLC.

Description: § 4(d) Rate Filing: Fuel Filing on 3-1-21 to be effective 4/1/2021.

Filed Date: 3/1/21.

Accession Number: 20210301-5065.

Comments Due: 5 p.m. ET 3/15/21.

Docket Numbers: RP21-559-000.

Applicants: Southwest Gas Storage Company.

Description: § 4(d) Rate Filing: Fuel Filing on 3-1-21 to be effective 4/1/2021.

Filed Date: 3/1/21.

Accession Number: 20210301-5066.

Comments Due: 5 p.m. ET 3/15/21.

Docket Numbers: RP21-560-000.

Applicants: Trunkline Gas Company, LLC.

Description: § 4(d) Rate Filing: Fuel Filing on 3-1-21 to be effective 4/1/2021.

Filed Date: 3/1/21.

Accession Number: 20210301-5068.

Comments Due: 5 p.m. ET 3/15/21.

Docket Numbers: RP21-561-000.

Applicants: Columbia Gas Transmission, LLC.

Description: § 4(d) Rate Filing: EPCA 2021 to be effective 4/1/2021.

Filed Date: 3/1/21.

Accession Number: 20210301-5069.

Comments Due: 5 p.m. ET 3/15/21.

Docket Numbers: RP21-562-000.

Applicants: Equitrans, L.P.

Description: § 4(d) Rate Filing: Negotiated Rate Capacity Release Agreements—3/1/2021 to be effective 3/1/2021.

Filed Date: 3/1/21.

Accession Number: 20210301-5070.

Comments Due: 5 p.m. ET 3/15/21.

Docket Numbers: RP21-563-000.

Applicants: MarkWest Pioneer, L.L.C.

Description: § 4(d) Rate Filing: Quarterly Fuel Adjustment Filing to be effective 4/1/2021.

Filed Date: 3/1/21.

Accession Number: 20210301-5071.

Comments Due: 5 p.m. ET 3/15/21.

Docket Numbers: RP21-564-000.

Applicants: High Island Offshore System, L.L.C.

Description: § 4(d) Rate Filing: Implement Storm Damage Surcharge to be effective 4/1/2021.

Filed Date: 3/1/21.

Accession Number: 20210301-5073.

Comments Due: 5 p.m. ET 3/15/21.

Docket Numbers: RP21-565-000.

Applicants: Columbia Gas Transmission, LLC.

Description: § 4(d) Rate Filing: TCRA 2021 to be effective 4/1/2021.

Filed Date: 3/1/21.

Accession Number: 20210301-5077.

Comments Due: 5 p.m. ET 3/15/21.

Docket Numbers: RP21-566-000.

Applicants: Columbia Gas Transmission, LLC.

Description: Compliance filing Annual Report on Operational Transactions 2021.

Filed Date: 3/1/21.

Accession Number: 20210301-5081.

Comments Due: 5 p.m. ET 3/15/21.

Docket Numbers: RP21-567-000.

Applicants: Columbia Gulf Transmission, LLC.

Description: Compliance filing Annual Report on Operational Transactions 2021.

Filed Date: 3/1/21.

Accession Number: 20210301-5082.

Comments Due: 5 p.m. ET 3/15/21.

Docket Numbers: RP21-568-000.

Applicants: Crossroads Pipeline Company.

Description: § 4(d) Rate Filing: TRA 2021 to be effective 4/1/2021.

Filed Date: 3/1/21.

Accession Number: 20210301-5093.

Comments Due: 5 p.m. ET 3/15/21.

Docket Numbers: RP21-569-000.

Applicants: Transcontinental Gas Pipe Line Company, LLC.

Description: § 4(d) Rate Filing: 2021 Annual Transco Fuel Tracker to be effective 4/1/2021.

Filed Date: 3/1/21.

Accession Number: 20210301-5094.

Comments Due: 5 p.m. ET 3/15/21.

Docket Numbers: RP21-570-000.

Applicants: Gulf South Pipeline Company, LLC.

Description: § 4(d) Rate Filing: Updates to Priority of Service to be effective 4/1/2021.

Filed Date: 3/1/21.

Accession Number: 20210301-5114.

Comments Due: 5 p.m. ET 3/15/21.

Docket Numbers: RP21-571-000.

Applicants: Gulf South Pipeline Company, LLC.

Description: § 4(d) Rate Filing: Cap Rel Neg Rate Agmts (Marathon 51753, 51754 to Spire 53687, 53689) to be effective 3/1/2021.

Filed Date: 3/1/21.

Accession Number: 20210301-5115.

Comments Due: 5 p.m. ET 3/15/21.

Docket Numbers: RP21-572-000.

Applicants: Gulf South Pipeline Company, LLC.

Description: § 4(d) Rate Filing: Cap Rel Neg Rate Agmt (Constellation 53637 to Exelon 53691) to be effective 3/1/2021.

Filed Date: 3/1/21.

Accession Number: 20210301-5117.

Comments Due: 5 p.m. ET 3/15/21.

Docket Numbers: RP21-573-000.

Applicants: Columbia Gulf Transmission, LLC.

Description: § 4(d) Rate Filing: TRA 2021 to be effective 4/1/2021.

Filed Date: 3/1/21.

Accession Number: 20210301-5143.

Comments Due: 5 p.m. ET 3/15/21.

Docket Numbers: RP21-574-000.

Applicants: WBI Energy Transmission, Inc.

Description: § 4(d) Rate Filing: 2021 Annual Fuel & Electric Power Reimbursement to be effective 4/1/2021.

Filed Date: 3/1/21.

Accession Number: 20210301-5145.

Comments Due: 5 p.m. ET 3/15/21.

Docket Numbers: RP21-575-000.

Applicants: WBI Energy Transmission, Inc.

Description: § 4(d) Rate Filing: 2021 Non-Conforming and Negotiated Rate Service Agreement—ONEOK FT-1664 to be effective 4/1/2021.

Filed Date: 3/1/21.

Accession Number: 20210301-5150.

Comments Due: 5 p.m. ET 3/15/21.

Docket Numbers: RP21-577-000.

Applicants: ANR Pipeline Company.

Description: § 4(d) Rate Filing: Venture Global NC/NR Agreement to be effective 4/1/2021.

Filed Date: 3/1/21.

Accession Number: 20210301-5196.

Comments Due: 5 p.m. ET 3/15/21.

Docket Numbers: RP21-578-000.

Applicants: KPC Pipeline, LLC.

Description: § 4(d) Rate Filing: Fuel Reimbursement Adjustment to be effective 4/1/2021.

Filed Date: 3/1/21.

Accession Number: 20210301-5204.

Comments Due: 5 p.m. ET 3/15/21.

Docket Numbers: RP21-579-000.

Applicants: Transcontinental Gas Pipe Line Company, LLC.

Description: § 4(d) Rate Filing: Annual Electric Power Tracker Filing effective April 1, 2021 to be effective 4/1/2021.

Filed Date: 3/1/21.

Accession Number: 20210301-5214.

Comments Due: 5 p.m. ET 3/15/21.

Docket Numbers: RP21-580-000.

Applicants: High Point Gas Transmission, LLC.

Description: Compliance filing Hight Point Gas Transmission Annual LAUF Filing.

Filed Date: 3/1/21.

Accession Number: 20210301-5223.

Comments Due: 5 p.m. ET 3/15/21.

Docket Numbers: RP21-581-000.

Applicants: Cheniere Corpus Christi Pipeline, LP.

Description: § 4(d) Rate Filing: Transportation Retainage Adjustment & Tariff Waiver Req Effective April 1, 2021 to be effective 4/1/2021.

Filed Date: 3/1/21.

Accession Number: 20210301-5228.

Comments Due: 5 p.m. ET 3/15/21.

Docket Numbers: RP21-582-000.

Applicants: Columbia Gas Transmission, LLC.

Description: § 4(d) Rate Filing: RAM 2021 to be effective 4/1/2021.

Filed Date: 3/1/21.

Accession Number: 20210301-5231.

Comments Due: 5 p.m. ET 3/15/21.

Docket Numbers: RP21-583-000.

Applicants: Northern Natural Gas Company.

Description: § 4(d) Rate Filing: 20210301 Negotiated Rate to be effective 3/2/2021.

Filed Date: 3/1/21.

Accession Number: 20210301-5239.

Comments Due: 5 p.m. ET 3/15/21.

Docket Numbers: RP21-584-000.

Applicants: ETC Tiger Pipeline, LLC.

Description: § 4(d) Rate Filing: Negotiated Rate Filing—Chesapeake to be effective 4/1/2021.

Filed Date: 3/1/21.

Accession Number: 20210301-5241.

Comments Due: 5 p.m. ET 3/15/21.

Docket Numbers: RP21-585-000.

Applicants: Rockies Express Pipeline LLC.

Description: Compliance filing REX 2021-03-01 Fuel and L&U Reimbursement Percentages and Power Cost Charges.

Filed Date: 3/1/21.

Accession Number: 20210301-5367.

Comments Due: 5 p.m. ET 3/15/21.

Docket Numbers: RP21-586-000.

Applicants: Florida Gas Transmission Company, LLC.

Description: § 4(d) Rate Filing: Fuel Filing on 3-1-21 to be effective 4/1/2021.

Filed Date: 3/1/21.

Accession Number: 20210301-5355.

Comments Due: 5 p.m. ET 3/15/21.

Docket Numbers: RP21-587-000.

Applicants: Equitrans, L.P.

Description: § 4(d) Rate Filing: AVC Storage Loss Retainage Factor Update—2021 to be effective 4/1/2021.

Filed Date: 3/1/21.

Accession Number: 20210301-5345.

Comments Due: 5 p.m. ET 3/15/21.

Docket Numbers: RP21-588-000.

Applicants: ANR Pipeline Company.

Description: § 4(d) Rate Filing: ANR Fuel Filing 2021 to be effective 4/1/2021.

Filed Date: 3/1/21.

Accession Number: 20210301-5362.

Comments Due: 5 p.m. ET 3/15/21.

Docket Numbers: RP21-589-000.

Applicants: KO Transmission Company.

Description: § 4(d) Rate Filing: 2021 Transportation Retainage Adjustment to be effective 4/1/2021.

Filed Date: 3/1/21.

Accession Number: 20210301-5359.

Comments Due: 5 p.m. ET 3/15/21.

Docket Numbers: RP21-590-000.

Applicants: Texas Eastern Transmission, LP.

Description: § 4(d) Rate Filing: Negotiated Rates—Releases eff 3-1-2021 to be effective 3/1/2021.

Filed Date: 3/1/21.

Accession Number: 20210301-5334.

Comments Due: 5 p.m. ET 3/15/21.

Docket Numbers: RP21-591-000.

Applicants: Equitrans, L.P.

Description: § 4(d) Rate Filing: Update Initial Retainage Rate 4-1-2021 to be effective 4/1/2021.

Filed Date: 3/1/21.

Accession Number: 20210301-5369.

Comments Due: 5 p.m. ET 3/15/21.

Docket Numbers: RP21-592-000.

Applicants: UGI Sunbury, LLC.

Description: § 4(d) Rate Filing: Annual Retainage Adjustment 2021 to be effective 4/1/2021.

Filed Date: 3/1/21.

Accession Number: 20210301-5336.

Comments Due: 5 p.m. ET 3/15/21.

Docket Numbers: RP21-593-000.

Applicants: NEXUS Gas Transmission, LLC.

Description: § 4(d) Rate Filing: Negotiated Rates—Various Releases 3-1-2021 to be effective 3/1/2021.

Filed Date: 3/1/21.

Accession Number: 20210301-5340.

Comments Due: 5 p.m. ET 3/15/21.

Docket Numbers: RP21-594-000.

Applicants: UGI Mt. Bethel Pipeline Company, LLC.

Description: Annual Retainage Adjustment of UGI Mt. Bethel Pipeline Company, LLC.

Filed Date: 3/1/21.

Accession Number: 20210301-5415.

Comments Due: 5 p.m. ET 3/15/21.

Docket Numbers: RP21-595-000.

Applicants: Adelphia Gateway, LLC.

Description: Annual Transporter?s Use and System Balancing Adjustment of Adelphia Gateway, LLC.

Filed Date: 3/1/21.

Accession Number: 20210301-5416.

Comments Due: 5 p.m. ET 3/15/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 2, 2021.
Nathaniel J. Davis, Sr.,
Deputy Secretary.

[FR Doc. 2021-04753 Filed 3-5-21; 8:45 am]

BILLING CODE 6717-01-P